DEPARTMENT OF HOMELAND SECURITY

Coast Guard

[USCG-2005-22837]

Nationwide Automatic Identification System, Draft Programmatic Environmental Impact Statement

AGENCY: U.S. Coast Guard, Department of Homeland Security.

ACTION: Notice of availability; notice of public meeting; request for public comments.

SUMMARY: The U.S. Coast Guard (USCG) announces the availability of the draft programmatic environmental impact statement (PEIS) addressing the proposed implementation of the Nationwide Automatic Identification System (NAIS) project. The proposed implementation of the NAIS project would involve installing receivers, transmitters, transceivers, repeaters, and other equipment on towers or other structures at up to 450 sites at locations along 95,000 miles of coastline and inland waterways, as well as the use of selected remote platforms. The USCG requests public comments on the draft PEIS.

DATES: One public meeting concerning the draft PEIS is planned. The public meeting will be held on Wednesday, August 9,2006 in Washington, DC. The public meeting will begin at 9 a.m. and is scheduled to end at 11 a.m. The public meeting may end earlier or later than the stated time, depending on the number of persons wishing to speak. Comments and related material submitted in response to the request for public comments must reach the Docket Management Facility on or before August 14, 2006.

ADDRESSES: The public meeting will be held at the USCG Headquarters building (Transpoint Building), 2100 Second Street, SW., Washington, DC 20593.

You may submit comments identified by Coast Guard docket number USCG-2005-22837 to the Docket Management Facility at the U.S. Department of Transportation (DOT). To avoid duplication, please use only one of the following methods to submit comments or other materials:

(1) Web site: http://dms.dot.gov.

(2) Mail: Docket Management Facility, U.S. Department of Transportation, 400 Seventh Street, SW., Washington, DC 20590-0001.

(3) Fax: 202-493-2251.

(4) Delivery: Room PL-401 on the Plaza level of the Nassif Building, 400 Seventh Street SW., Washington, DC, between 9 a.m and 5 p.m., Monday through Friday, except holidays. The telephone number is 202-366-9329.

(5) Federal eRulemaking Portal: http://www.regulations.gov.

FOR FURTHER INFORMATION CONTACT: If you have questions on this notice, please call or e-mail Anita Allen, Ph.D., NAIS Environmental Manager, at 202-474-3292 or aallen@comdt.uscg.mil. If you have questions on viewing the docket, call Ms. Andrea M. Jenkins, Program Manager, Docket Operations at 202-366-0271.

The draft PEIS is available for viewing online at the DOT's docket management Web site: http://dms.dot.gov under docket number 22837. A copy of the draft PEIS can also be obtained on the NAIS project Web site: http://www.uscg.mil/hq/g-a/AIS/ or by contacting Dr. Allen.

SUPPLEMENTARY INFORMATION:

Public Meeting

We invite you to comment at the public meeting on the proposed action and the evaluation presented in the draft PEIS.

Please notify the USCG prior to the public meeting if you wish to speak at the public meeting (see FOR FURTHER INFORMATION CONTACT). In order to allow everyone a chance to speak, the USCG may limit speaker time, or extend the meeting hours, or both. You must identify yourself, and any organization you represent, by name. Your remarks will be recorded or transcribed for inclusion in the public docket. You may submit written material at the public meeting, either in place of or in addition to speaking. Written material must include your name and address.

Verbal and written input will be included in the public docket. Public docket materials will be made available to the public on the Docket Management Facility's Docket Management System (DMS). See “Request for Comments” for information about DMS and your rights under the Privacy Act.

If you plan to attend the public meeting, and need special assistance such as sign language interpretation or other reasonable accommodation, please notify the USCG (see FOR FURTHER INFORMATION CONTACT) at least 3 business days in advance. Include your contact information, as well as information about your specific needs.

Request for Comments

As a part of the process to prepare the PEIS, the USCG requests public comments or other relevant information on the draft PEIS. The public meeting is not the only opportunity you have to comment on the draft PEIS. In addition to, or in place of attending the meeting, persons or organizations can submit material to the Docket Management Facility during the public comment period (see DATES). The USCG will consider all comments submitted during the public comment period, and subsequently will prepare the final PEIS. The USCG will announce the availability of the final PEIS and once again give interested parties an opportunity to review the document. (If you want the notice for the final PEIS to be sent to you, please contact the personnel identified in FOR FURTHER INFORMATION CONTACT.)

All comments received will be posted, without change, to http://dms.dot.gov and will include any personal information you have provided. We have an agreement with the Department of Transportation (DOT) to use the Docket Management Facility. Please see DOT's “Privacy Act” paragraph below.

Submitting comments: If you submit a comment, please include your name and address, identify the docket number for this notice (USCG-2005-22837) and give the reason for each comment. You may submit your comments by electronic means, mail, fax, or delivery to the Docket Management Facility at the address under ADDRESSES; but please submit your comments by only one means. If you submit them by mail or delivery, submit them in an unbound format, no larger than 8½ by 11 inches, suitable for copying and electronic filing. If you submit them by mail and would like to know that they reached the Facility, please enclose a stamped, self-addressed postcard or envelope. We will consider all comments received during the comment period.

Viewing comments and documents: To view comments, go to http://dms.dot.gov at any time, click on “Simple Search,” enter the last five digits of the docket number for this rulemaking, and click on “Search.” You may also visit the Docket Management Facility in room PL-401 on the Plaza level of the Nassif Building, 400 Seventh Street, SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Proposed Action

The USCG published a notice of intent to prepare a PEIS for the proposed implementation of the NAIS project in the Federal Register (70 FR 70862, November 23, 2005). The proposed action requiring environmental review is a DHS Level I investment and USCG major systems acquisition that would involve installing receivers, transmitters, transceivers, repeaters, and other equipment on towers or other structures at up to 450 sites along 95,000 miles of coastline, other inland waterways, and remote platforms such as satellites, offshore oil and gas platforms and data buoys.

The purpose of the proposed action evaluated in the draft PEIS is to establish a nationwide network of receivers and transmitters to capture, display, exchange, and analyze AIS-generated information. The proposed action would satisfy the USCG's need to enhance homeland security while carrying out its mission to ensure marine safety and security, preserve maritime mobility, protect the marine environment, enforce U.S. laws and international treaties, and perform search and rescue (SAR) operations.

The AIS is an international standard for ship-to-ship, ship-to-shore, and shore-to-ship communication of information, including vessel identity, position, speed, course, destination, and other data of critical interest for navigational safety and maritime security. The proposed implementation of the NAIS project would provide the USCG with the capability to receive and distribute information from shipboard AIS equipment and transmit information to AIS equipped vessels to enhance Maritime Domain Awareness. The proposed project would provide detection and identification of vessels carrying AIS equipment approaching or operating in the maritime domain where little or no vessel tracking currently exists.

Alternatives To the Proposed Action

The technical and operational requirements for NAIS require the system to be operational in both inland navigable waters and the open ocean out to 2,000 nautical miles (NM) offshore. No single implementation alternative could meet the technical and operational requirements of this large and geographically variable area. As a result, the USCG believes that a combination of implementation alternatives would be needed to meet the technical and operational requirements. The proposed implementation of the NAIS project includes using a combination of the following coverage mechanisms:

(1) NAIS Short-Range Coverage—Shore-Based Radio Frequency (RF) Sites. The establishment of shore-based RF sites was the only alternative found by the USCG to be viable for achieving short-range NAIS coverage. Short-range NAIS coverage includes inland navigable waters, and out to 50 nautical miles (NM) offshore. Shore-based RF sites would consist of AIS equipment mounted on towers, buildings, bridges, or other structures. The USCG anticipates the majority of these sites would be tower-based. The USCG would be faced with the choice of installing AIS equipment at new sites (“new build”); installing AIS equipment adjacent to existing communications equipment (“collocation”); or, program wide, using a combination of the collocation and new build sites for shore-based RF sites.

For the proposed implementation of the NAIS project, the USCG has chosen to bound or bracket the programmatic environmental analysis of the shore-based RF sites by evaluating three potential NAIS siting alternatives: All New Tower Builds, Combination of Collocations and New Tower Builds, and All Collocations.

(2) NAIS Long-Range Coverage—Satellites. For long-range coverage, satellite services could be leased from commercial satellite providers or the government. The USCG is currently assessing technology development to support this capability. The analysis of this alternative assumes that the initial technology development would yield a deployable solution. The satellite system is envisioned to consist of a number of low earth orbit satellites to provide the needed long-range maritime tracking of vessels (i.e., coverage requirement to receive AIS signals with a minimum 4-hour reporting rate out to 2,000 NM offshore).

(3) NAIS Long-Range Coverage—Offshore Platforms and Data Buoys. NAIS long-range coverage could be provided, in part, by using existing offshore platform and data buoy capabilities to provide additional coverage availability. The USCG is currently evaluating the effectiveness of deploying AIS base stations and AIS receivers on various offshore Gulf of Mexico oil and gas platforms and National Oceanic and Atmospheric Administration data buoys. Potential offshore platforms of interest include existing active U.S. Department of the Interior (DOI) Minerals Management Service (MMS)-regulated oil and gas infrastructures in the Gulf of Mexico, Pacific, and Alaska regions.

Dated: June 22, 2006.
J.P. Currier,
Rear Admiral, United Stated Coast Guard, Assistant Commandant for Acquisition.

[FR Doc. E6-10256 Filed 6-29-06; 8:45 am]

BILLING CODE 4910-15-P